DEPARTMENT OF TRANSPORTATION

Federal Aviation Administration

14 CFR Part 71

[Docket No. FAA-2020-0709; Airspace Docket No. 20-AEA-2]

RIN 2120-AA66

Amendment of V-6, V-30, V-58, V-119, and V-226 in the Vicinity of Clarion, PA

AGENCY: Federal Aviation Administration (FAA), DOT.

ACTION: Final rule.

SUMMARY: This action amends VHF Omnidirectional Range (VOR) Federal airways V-6, V-30, V-58, V-119, and V-226 in the vicinity of Clarion, PA. The VOR Federal airway modifications are necessary due to the planned decommissioning of the VOR portion of the Clarion, PA, VOR/Distance Measuring Equipment (VOR/DME) navigation aid (NAVAID). The Clarion VOR/DME provides navigation guidance for portions of the affected ATS routes. The Clarion VOR is being decommissioned as part of the FAA's VOR Minimum Operational Network (MON) program.

DATES: Effective date 0901 UTC, February 25, 2021. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking for Docket No. FAA-2020-0709 in the Federal Register (85 FR 49324; August 13, 2020), amending VOR Federal airways V-6, V-30, V-58, V-119, and V-226 in the vicinity of Clarion, PA. The proposed amendment actions were due to the planned decommissioning of the VOR portion of the Clarion, PA, VOR/DME. Interested parties were invited to participate in this rulemaking effort by submitting written comments on the proposal. No comments were received.

VOR Federal airways are published in paragraph 6010(a) of FAA Order 7400.11E, dated July 21, 2020, and effective September 15, 2020, which is incorporated by reference in 14 CFR 71.1. The VOR Federal airways listed in this document will be subsequently published in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

The FAA is amending Title 14 Code of Federal Regulations (14 CFR) part 71 by modifying VOR Federal airways V-6, V-30, V-58, V-119, and V-226. The planned decommissioning of the VOR portion of the Clarion, PA, VOR/DME NAVAID has made this action necessary. The VOR Federal airway changes are outlined below.

V-6: V-6 extends between the Oakland, CA, VOR/DME and the DuPage, IL, VOR/DME; between the intersection of the Chicago Heights, IL, VOR/Tactical Air Navigation (VORTAC) 358° and Gipper, MI, VORTAC 271° radials (NILES fix) and the intersection of the Gipper, MI, VORTAC 092° and Litchfield, MI, VOR/DME 196° radials (MODEM fix); and between the Clarion, PA, VOR/DME and the La Guardia, NY, VOR/DME. The airway segment overlying the Clarion, PA, VOR/DME between the Clarion, PA, VOR/DME and the Philipsburg, PA, VORTAC is removed. The unaffected portions of the existing airway remain as charted.

V-30: V-30 extends between the Badger, WI, VOR/DME and the Litchfield, MI, VOR/DME; and between the Clarion, PA, VOR/DME and the Solberg, NJ, VOR/DME. The airway segment overlying the Clarion, PA, VOR/DME between the Clarion, PA, VOR/DME and the Philipsburg, PA, VORTAC is removed. The unaffected portions of the existing airway remain as charted.

V-58: V-58 extends between the intersection of the Franklin, PA, VOR 176° and Clarion, PA, VOR/DME 222° radials (GRACE fix) and the Williamsport, PA, VOR/DME; and between the intersection of the Sparta, NJ, VORTAC 018° and Kingston, NY, VOR/DME 270° radials (HELON fix) and the Nantucket, MA, VOR/DME. The airspace within R-4105 is excluded during times of use. The airway segment between the Franklin, PA, VOR 176° and Clarion, PA, VOR/DME 222° radials (GRACE fix) and the Philipsburg, PA, VORTAC is removed. Additionally, the restricted area exclusion language is removed also. The unaffected portions of the existing airway remain as charted.

V-119: V-119 extends between the Henderson, WV, VORTAC and the Clarion, PA, VOR/DME. The airway segment overlying the Clarion, PA, VOR/DME between the Indian Head, PA, VORTAC and the Clarion, PA, VOR/DME is removed. The unaffected portions of the existing airway remain as charted.

V-226: V-226 extends between the intersection of the Franklin, PA, VOR 175° and Clarion, PA, VOR/DME 222° radials (GRACE fix) and the Stillwater, NJ, VOR/DME. The airway segment overlying the Clarion, PA, VOR/DME between the intersection of the Franklin, PA, VOR 175° and Clarion, PA, VOR/DME 222° radials (GRACE fix) and the Keating, PA, VORTAC is removed. The unaffected portions of the existing airway remain as charted.

The NAVAID radials in the VOR Federal airway descriptions below are unchanged and stated in True degrees.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of amending VOR Federal airways V-6, V-30, V-58, V-119, and V-226, due to the planned decommissioning of the VOR portion of the Clarion, PA, VOR/DME NAVAID, qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6010(a) Domestic VOR Federal Airways.

* * * * *

V-6 [Amended]

From Oakland, CA; INT Oakland 039° and Sacramento, CA, 212° radials; Sacramento; Squaw Valley, CA; Mustang, NV; Lovelock, NV; Battle Mountain, NV; INT Battle Mountain 062° and Wells, NV, 256° radials; Wells; 5 miles, 40 miles, 98 MSL, 85 MSL, Lucin, UT; 43 miles, 85 MSL, Ogden, UT; 11 miles, 50 miles, 105 MSL, Fort Bridger, WY; Rock Springs, WY; 20 miles, 39 miles, 95 MSL, Cherokee, WY; 39 miles, 27 miles, 95 MSL, Medicine Bow, WY; INT Medicine Bow 106° and Sidney, NE, 291° radials; Sidney; North Platte, NE; Grand Island, NE; Omaha, IA; Des Moines, IA; Iowa City, IA; Davenport, IA; INT Davenport 087° and DuPage, IL, 255° radials; to DuPage. From INT Chicago Heights, IL, 358° and Gipper, MI, 271° radials; Gipper; to INT Gipper 092° and Litchfield, MI, 196° radials. From Philipsburg, PA; Selinsgrove, PA; Allentown, PA; Solberg, NJ; INT Solberg 107° and Yardley, PA, 068° radials; INT Yardley 068° and La Guardia, NY, 213° radials; to La Guardia.

* * * * *

V-30 [Amended]

From Badger, WI; INT Badger 102° and Pullman, MI, 303° radials; Pullman; to Litchfield, MI. From Philipsburg, PA; Selinsgrove, PA; East Texas, PA; INT East Texas 095° and Solberg, NJ, 264° radials; to Solberg.

* * * * *

V-58 [Amended]

From Philipsburg, PA; to Williamsport, PA. From INT Sparta, NJ, 018° and Kingston, NY, 270° radials; Kingston; INT Kingston 095° and Hartford, CT, 269° radials; Hartford; Groton, CT; Sandy Point, RI; to Nantucket, MA.

* * * * *

V-119 [Amended]

From Henderson, WV; Parkersburg, WV; INT Parkersburg 067° and Indian Head, PA, 254° radials; to Indian Head.

* * * * *

V-226

From Keating, PA; Williamsport, PA; Wilkes-Barre, PA; to Stillwater, NJ.

* * * * *

Issued in Washington, DC, on December 3, 2020.
George Gonzalez,
Acting Manager, Rules and Regulations Group.

[FR Doc. 2020-26914 Filed 12-8-20; 8:45 am]

BILLING CODE 4910-13-P